DEPARTMENT OF ENERGY

Federal Energy Regulatory Commission

[Project No. 15370-000]

New England Hydropower Company, LLC; Notice of Preliminary Permit Application Accepted for Filing and Soliciting Comments, Motions To Intervene, and Competing Applications

On August 14, 2024, New England Hydropower Company, LLC, filed an application for a preliminary permit, pursuant to section 4(f) of the Federal Power Act (FPA), proposing to study the feasibility of the Manville Dam Hydroelectric Project No. 15370 (project), to be located at the Manville dam on the Blackstone River near the Town of Cumberland, Providence County, Rhode Island. The sole purpose of a preliminary permit, if issued, is to grant the permit holder priority to file a license application during the permit term. A preliminary permit does not authorize the permit holder to perform any land-disturbing activities or otherwise enter upon lands or waters owned by others without the owners' express permission.

The proposed project would consist of the following new features: (1) three fixed blade Kaplan turbines including two turbines with a generating capacity of 392 kilowatts, and one turbine with a generating capacity of 180 kilowatts; (2) two 24-foot-wide, 50-foot-long turbine bays; (3) a 16-foot-wide, 35-foot-long, 16-foot-high electrical control building; (4) a 1,000 kilo-volt-amperes pad-mounted transformer; (5) a 50 kilo-volt-amperes grounding transformer; (6) three shut-off gates; (7) two 24-foot wide, 50-foot-long steel trash racks; (8) two 24 foot-wide, 10-foot-long isolation gates; (9) three 14-foot-long draft tubes; and (9) an 800-foot-long, 13 kilovolt transmission line connecting the turbine generator units to the regional grid. The proposed project would have an estimated average annual generation of 3,952-megawatt-hours.

Applicant Contact: Michael C. Kerr, New England Hydropower Company, LLC, 100 Cummings Center, Suite 451C, Beverly, MA 01915; phone: (860) 729-9767; email: michael@nehydropower.com.

FERC Contact: Justin R. Robbins; phone: (202) 502-8308, or by email at justin.robbins@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket number P-15370-000.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

More information about this project, including a copy of the application, can be viewed on the Commission's website (https://www.ferc.gov) using the “eLibrary” link. Enter the docket number, excluding the last three digits (P-15370), in the docket number field to access the document. For assistance, contact FERC Online Support.

Dated: January 27, 2025.
Debbie-Anne A. Reese,
Secretary.

[FR Doc. 2025-02078 Filed 1-31-25; 8:45 am]

BILLING CODE 6717-01-P